DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Evaluation of Mentoring and Family Strengthening Youth Substance Abuse Prevention Initiatives—New—The basis for the current cross-site evaluation originates from two previous efforts funded by SAMHSA's Center for Substance Abuse Prevention (CSAP) aimed at providing prevention services for high-risk youth: (1) Project Youth Connect—Mentoring and (2) Parent and Family Strengthening. The Project Youth Connect Program, funded in 1998, was designed to determine the effectiveness of a paid mentor/advocate model in improving life achievement outcomes for youth 9 to 15 years of age and their families. The Parent/Family Strengthening Program was designed to present science-based program models that would be selected for implementation within local communities. Funding for the parent/family strengthening program was distributed in two cohorts, with Cohort 1 receiving funding in 1998 and Cohort 2 receiving funding in 1999. Both cohorts were funded for a period of 24 months to address the gap between effective family-based prevention interventions and their availability in States, communities and other organizations.

The goal of the current cross-site evaluation seeks to build upon these previous efforts by evaluating the impact of a three-year Mentoring and Family Strengthening prevention program targeting high-risk youth and their caregivers on reducing risk factors related to, and enhancing protective factors against, substance abuse. Seven mentoring and nine family strengthening study sites were funded by SAMHSA/CSAP as of September 2001 to participate in this cross-site study. The primary objectives of the cross-site evaluation are to: (1) Assess the process of implementing program models with diverse target groups, (2) measure the effectiveness of specified intervention strategies such as cultural enrichment activities, educational and vocational resources, or computer-based curricula, and (3) determine the success of the Mentoring and Family Strengthening Programs in delaying, preventing, and/or reducing the use of alcohol, tobacco, and other drugs (ATOD) among youth and caregivers at risk for such behaviors. Conducting this evaluation will assist SAMHSA/CSAP in promoting and disseminating optimally effective prevention programs.

The CSAP GPRA Adult and Youth questionnaires, which have been approved by OMB (OMB No. 0930-0208) for use in all CSAP prevention services programs, will be used to measure ATOD use and risk factors associated with ATOD abuse among program participants and comparison subjects. Scales from the CSAP Core Measures list (OMB No. 0930-0230) and the CSAP National Youth Survey (OMB No. 0930-0178) will be used to measure other important risk and protective factors. The cross-site instrument (containing CSAP GPRA, scales from the CSAP Core Measures list, and scales from the CSAP National Youth Survey) is augmented with additional scales in order to measure other important risk factors such as family conflict and parental stress. Protective factors that serve to guard against ATOD abuse include educational aspirations, school connectedness, and family cohesion. Data will also be gathered from program reports using a “dosage form” that will document services provided to youth and their adult caregivers.

The evaluation data will be collected through self-report questionnaires administered to program and comparison youth and adults, and to Mentors at the Mentoring Study Sites. Each youth and adult in the intervention and comparison group will complete questionnaires at three different times: (1) Baseline, (2) program exit and (3) 6-month follow up. Each Mentor will complete a background information form at baseline; mentees will complete a questionnaire about their mentor at program exit and at 6-month follow up. The dosage form will be completed by Mentors and Family Strengthening program staff on a weekly basis for program youth and adults.

Sample size, respondent burden, and intrusiveness have been minimized to be consistent with the cross-site evaluation objectives. Procedures are employed to safeguard the privacy and confidentiality of participants. Every effort has been made to coordinate cross-site data collection with local data collection efforts in order to minimize respondent burden. Pilot tests assisted in controlling burden and ensuring the user-relevance of questions.

Evaluation results will have significant implications for the substance abuse prevention field, the allocation of grant funds, and evaluation activities conducted by multiple Federal, state, and local government agencies. Results will be used to develop federal policy in support of SAMHSA/CSAP program initiatives, inform the public of lessons learned and findings, improve existing programs, and promote replication and dissemination of effective prevention strategies.

The following table shows the estimated annualized burden for data collection.

Response type | Number of respondents | Responses/ respondent | Average burden/ response (hrs.) | Total burden hours
*Youth (intervention and comparison) | 2,500 | 3 | .50 | 3,750
*Adult Family Strengthening (intervention and comparison) | 1,250 | 3 | .50 | 1,875
**Adult Mentoring | 1,250 | 3 | .667 | 2,501
Mentor Information Form | 121 | 1 | .167 | 20
Mentee Measure Form | 692 | 2 | .250 | 346
Weekly Dosage Form—Family Strengthening Staff | 46 | 4,000 | .083 | 15,272
Weekly Dosage Form—paid mentors | 21 | 18,900 | .083 | 32,943
Weekly Dosage Form—volunteer mentors | 100 | 200 | .083 | 1,660
Total | 5,167 |  |  | 58,367
3-Yr. Average Annual | 1,722 |  |  | 19,456
* Average response burden does not include the 20 minutes for completing the CSAP GPRA Tool (OMB No. 0930-0208) or 10 minutes for completing questions that are part of the Core Measures (OMB No. 0930-0230) for the Youth Questionnaires and the Adult Family Strengthening Questionnaire.
** The Adult Mentoring Questionnaire does not include CSAP GPRA Tool.

Written comments and recommendations concerning the proposed information collection should be sent within 30 days of this notice to: Allison Herron Eydt, Human Resources and Housing Branch, Office of Management and Budget, New Executive Office Building, Room 10235, Washington, DC 20503.

Dated: January 2, 2003.
Richard Kopanda,
Executive Officer, SAMHSA.

[FR Doc. 03-489 Filed 1-9-03; 8:45 am]

BILLING CODE 4162-20-P